DEPARTMENT OF HEALTH AND HUMAN SERVICES

Office of the Secretary

Findings of Scientific Misconduct

AGENCY: Office of the Secretary, HHS.

ACTION: Notice.

SUMMARY: Notice is hereby given that the Office of Research Integrity (ORI), the Acting Assistant Secretary for Health, and the Director, Office of Acquisition Management and Policy, have taken final agency action in the following case:

Randall Luce, University at Buffalo, State University of New York: Based on the report of an investigation conducted by the University of Buffalo (UB), State University of New York (SUNY) (UB Report), and a conviction of the criminal offense of grand larceny, as defined in section 110-155.30 of the New York Penal Law, in the Buffalo City Court of Erie County, State of New York (Case #2004ER009612M), the Department of Health and Human Services (HHS) debarred Mr. Randall Luce, former research technician in the UB Research Institute for Addictions (RIA), for a period of three (3) years, beginning on July 26, 2005, and ending on July 25, 2008.

Mr. Luce pled guilty to grand larceny and admitted to the misappropriation of funds and the fabrication of research subject interviews in the conduct of an RIA study supported by the United States Public Health Service (PHS), National Institutes of Health (NIH), National Institute on Alcoholism and Alcohol Abuse (NIAAA), grant RO1 AA12452, “A harm reduction approach for reducing DWI recidivism.”

This action is taken pursuant to the HHS nonprocurement debarment and suspension regulation at 45 CFR part 76.

FOR FURTHER INFORMATION CONTACT: Director, Division of Investigative Oversight, Office of Research Integrity, 1101 Wootton Parkway, Suite 750, Rockville, MD 20852. (301) 443-5330.

Chris B. Pascal,
Director, Office of Research Integrity.

[FR Doc. 05-15777 Filed 8-9-05; 8:45 am]

BILLING CODE 4150-31-P